DEPARTMENT OF TRANSPORTATION

Coast Guard

33 CFR Part 100

[CGD 09-01-076]

RIN 2115-AE46

Special Local Regulations for Marine Events; Sturgeon Bay Canal, Sturgeon Bay, Wisconsin

AGENCY: Coast Guard, DOT.

ACTION: Temporary final rule.

SUMMARY: The Coast Guard is adopting temporary special local regulations for the Sturgeon Bay Venetian Night Parade and Fireworks, an event to be held on the waters of the Sturgeon Bay Canal, Sturgeon Bay, Wisconsin. These special local regulations are necessary to provide for the safety of life on navigable waters during the event. This action is intended to restrict vessel traffic in the Sturgeon Bay Canal, Sturgeon Bay, Wisconsin during the event.

DATES: This rule is effective from 8:20 p.m. to 10 p.m. on August 4, 2001.

ADDRESSES: Comments and material received from the public, as well as documents indicated in this preamble as being available in the docket, are part of docket [CDG-09-01-076] and are available for inspection or copying at U.S. Coast Guard Marine Safety Office Milwaukee, 2420 S. Lincoln Memorial Drive, Milwaukee, Wisconsin 53207 from 7 a.m. to 3:30 p.m. Monday through Friday, except Federal holidays.

FOR FURTHER INFORMATION CONTACT: LCDR Timothy Sickler, Port Operations Chief, Marine Safety Office Milwaukee, 2420 South Lincoln Memorial Drive, Milwaukee, WI 53207. The phone number is (414) 747-7155.

SUPPLEMENTARY INFORMATION:

Regulatory Information

We did not publish a notice of proposed rulemaking (NPRM) for this regulation. Under 5 U.S.C. 553(b)(B), the Coast Guard finds that good cause exists for not publishing an NPRM. Under 5 U.S.C. 553(d)(3), the Coast Guard finds that good cause exists for making this rule effective less than 30 days after publication in the Federal Register. The permit application did not allow sufficient time for publication of an NPRM followed by a temporary final rule effective 30 days after publication. Any delay of the effective date of this rule would be contrary to the public interest by exposing the public to the known dangers associated with fireworks displays and the possible loss of life, injury, and damage to property.

Background and Purpose

On August 4, 2001 the Sturgeon Bay Yacht Club will sponsor a boat parade from 8:20 p.m. to 9:30 p.m., followed by a fireworks display from 9:30 p.m. to 10 p.m., on the waters of the Sturgeon Bay Canal, Sturgeon Bay, Wisconsin. The fireworks will be launched from a barge anchored in the Sturgeon Bay Canal. A fleet of spectator vessels is expected to gather near the event site to view the parade and aerial demonstration. To provide for the safety of spectators and other transiting vessels, the Coast Guard will temporarily restrict vessel traffic in the event area during the parade and fireworks display.

The regulated area for the parade will encompass the waters of Sturgeon Bay bounded by the following coordinates: from the point of origin at 44° 49′51″ N, 087°22′56″ W; southeast to 44°49′31″ N, 087°22′29″ W; northeast to 44°49′32″ N, 087°22′28″ W; southeast to 44°49′27″ N, 087°22′20″ W; northeast to 44°49′33″ N, 087°22′11″ W; northwest to 44°49′43″ N, 087°22′34″ W; northwest to 44°49′56″ N, 087°22′49″ W, and then returning southwest to the point of origin. These coordinates are based on North American Datum of 1983 (NAD 83).

The regulated area for the fireworks display will encompass the waters of Sturgeon Bay bounded by the arc of a circle with a 350-foot radius with its center in approximate position 44°49′34″ N, 087°22′25″ W, offshore of Sturgeon Bay Yacht Club, Sturgeon Bay, Wisconsin (NAD 83). The size of the zone was determined using the National Fire Prevention Association guidelines and local knowledge concerning wind, waves, and currents.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, l979).

We expect the economic impact of this temporary final rule to be so minimal that a full Regulatory Evaluation under paragraph 10(e) of the regulatory policies and procedures of DOT is unnecessary.

Although this regulation prevents traffic from transiting a portion of the Sturgeon Bay Canal, Sturgeon Bay, Wisconsin, during the event, the effect of this regulation will not be significant due to the limited duration that the regulated area will be in effect and the extensive advance notifications that will be made to the maritime community via the Local Notice to Mariners, marine information broadcasts, and area newspapers so mariners can adjust their plans accordingly.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: the owners or operators of vessels intending to transit or anchor in the vicinity of Sturgeon Bay Canal, Sturgeon Bay, Wisconsin from 8:20 p.m. until 10 p.m. (CST) on August 4, 2001.

This regulated navigation area will not have a significant economic impact on a substantial number of small entities for the following reasons: This rule will be in effect for only a few hours on the day of the event and late in the day when vessel traffic is minimal. Vessel traffic may enter or transit through the safety zone with the permission of the Captain of the Port Milwaukee or his designated on scene representative. The Patrol Commander for this event may be reached via marine band VHF-FM Channel 16. Before the effective period, we will issue maritime advisories widely available to users of the Sturgeon Bay Canal.

Assistance for Small Entities

Under section 213(a) of the Small Business Regulatory Enforcement Fairness Act of 1996 (Public Law 104-121), we offered to assist small entities in understanding the rule so that they could better evaluate its effects on them and participate in the rulemaking process. If the rule would affect your small business, organization, or governmental jurisdiction and you have questions concerning its provisions or options for compliance, please contact Marine Safety Office Milwaukee (See ADDRESSES.)

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph (34)(h), of Commandant Instruction M16475.lC, this rule is categorically excluded from further environmental documentation.

List of Subjects in 33 CFR Part 100

Marine Safety, Navigation (water), Reporting and recordkeeping requirements, Waterways.

For the reasons discussed in the preamble, the Coast Guard amends 33 CFR part 100 as follows:

PART 100—MARINE EVENTS

1. The authority citation for part 100 continues to read as follows:

Authority: 33 U.S.C. 1233 through 1236; 49 CFR 1.46; 33 CFR 100.35.

2. A temporary section, § 100.35-T09-001, is added to read as follows:

§ 100.35-T09-001 Lake Michigan, Sturgeon Bay Canal, Sturgeon Bay, WI.

(a) Sturgeon Bay Venetian Night Parade—(1) Regulated area. The waters of Sturgeon Bay Canal bounded by the following coordinates: from the point of origin at 44°49′51″ N, 087°22′56″ W; southeast to 44°49′31″ N, 087°22′29″ W; northeast to 44°49′32″ N, 087°22′28″ W; southeast to 44°49′27″ N, 087°22′20″ W; northeast to 44°49′33″ N, 087°22′11″ W; northwest to 44°49′43″ N, 087°22′34″ W; northwest to 44°49′56″ N, 087°22′49″ W, and then southwest to the point of origin. These coordinates are based upon North American Datum of 1983 (NAD 83).

(2) Coast Guard Patrol Commander. The Coast Guard Patrol Commander is a commissioned, warrant, or petty officer who has been designated by the Commander, Coast Guard Group Milwaukee.

(3) Special local regulations. (i) Except for persons or vessels authorized by the Coast Guard Patrol Commander, no person of vessel may enter or remain in the regulated area.

(ii) The operator of any vessel in the regulated area shall:

(A) Stop the vessel immediately when directed to do so by any official patrol, including any commissioned, warrant or petty officer on board a vessel displaying a Coast Guard ensign.

(B) Proceed as directed by any official patrol, including any commissioned, warrant or petty officer on board a vessel displaying a Coast Guard ensign.

(4) Effective times and dates. From 8:20 p.m. (CST), until 9:30 p.m. (CST) on August 4, 2001.

(b) Sturgeon Bay Venetian Nights Fireworks Display—(1) Regulated area. The waters of Sturgeon Bay Canal bounded by the arc of a circle with a 350-foot radius with its center in approximate position 44°49′34″ N, 087°22′25″ W, offshore of Sturgeon Bay Yacht Club, Sturgeon Bay, Wisconsin. All geographic coordinates are North American Datum of 1983 (NAD 83).

(2) Coast Guard Patrol Commander. The Coast Guard Patrol Commander is a commissioned, warrant, or petty officer who has been designated by the Commander, Coast Guard Group Milwaukee.

(3) Special local regulations. (i) Except for persons or vessels authorized by the Coast Guard Patrol Commander, no person of vessel may enter or remain in the regulated area.

(ii) The operator of any vessel in the regulated area shall:

(A) Stop the vessel immediately when directed to do so by any official patrol, including any commissioned, warrant or petty officer on board a vessel displaying a Coast Guard ensign.

(B) Proceed as directed by any official patrol, including any commissioned, warrant or petty officer on board a vessel displaying a Coast Guard ensign.

(4) Effective dates and times. From 9:30 p.m. until 10 p.m. (CST) on August 4, 2001.

Dated: July 9, 2001.
J.D. Hull,
Rear Admiral, U.S. Coast Guard, Commander, Ninth Coast Guard District.

[FR Doc. 01-17950 Filed 7-17-01; 8:45 am]

BILLING CODE 4910-15-U